DEPARTMENT OF ENERGY

Bonneville Power Administration

Blackfeet Wind Project

AGENCY: Bonneville Power Administration (BPA), Department of Energy (DOE).

ACTION: Notice of intent to prepare an Environmental Impact Statement (EIS).

SUMMARY: BPA intends to prepare an EIS on the proposed Blackfeet Wind Project (Project), located in Glacier County, Montana, on the Blackfeet Indian Reservation. Blackfeet I, LLC (Blackfeet I) proposes to construct and operate the 36- to 66-megawatt (MW) wind generation facility. BPA proposes to purchase the electrical output from the Project. The EIS will address potential environmental impacts of the construction and operation of the wind project itself, as well as all related transmission facilities in accordance with the National Environmental Policy Act. The Department of Interior, Bureau of Indian Affairs, will be a cooperating agency because of their need to approve the contract and associated permits between Blackfeet I and the Blackfeet Indian Nation.

DATES: EIS scoping meetings will be held at the locations below on May 10, 2001. Written comments are due to the address below no later than May 25, 2001.

ADDRESSES: Send comment letters and requests to be placed on the Project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov.

The May 10, 2001, EIS scoping meetings will be held at the Bureau of Indian Affairs, Main Conference Room, 531 S.E. Boundary Street, in Browning, Montana, from 2 p.m. to 4 p.m.; and at the Cattle Baron Restaurant on U.S. 89 near milepost 40.5 in Babb, Montana, from 6 p.m. to 8 p.m. At these informal meetings, Blackfeet I will provide information, including maps, about the Project. Written information will be available, and BPA staff will answer questions and accept oral and written comments on the proposed scope of the Draft EIS.

FOR FURTHER INFORMATION CONTACT: Sarah T. Branum, KEC-4, Bonneville Power Administration, PO Box 3621, Portland, Oregon 97208-3621, phone number 503-230-5115, fax number 503-230-5699, email stbranum@bpa.gov.

SUPPLEMENTARY INFORMATION: Background. There is an increased demand in the electric utility industry to diversify energy portfolios and include energy produced by new renewable resources. The Northwest Power Planning Council's Fourth Conservation and Electric Power Plan recommends that Northwest utilities offer green power purchase opportunities as a way to help the region integrate renewable resources into the power system in the future. In addition, BPA has committed to increasing its supply of conservation and renewable resources to help meet load.

Purpose and Need. In the face of regional growth in electrical loads and increasing constraints on the existing energy resource base, BPA needs to acquire resources that will contribute to diversification of the long-term power supply in the region. The purposes of acquiring a diverse resource portfolio include:

• Protecting BPA and its utility customers against risk;

• Assuring consistency with BPA's responsibility under the Pacific Northwest Electric Power Planning and Conservation Act to encourage the development of renewable energy resources;

• Meeting customer demand for energy from renewable energy resources, thereby assuring consistency with BPA's Business Plan EIS (DOE/EIS-0183, June 1995) and Business Plan Record of Decision (ROD);

• Assuring consistency with the resource acquisition strategy of BPA's Resource Programs EIS (DOE/EIS-0162, February 1993) and ROD; and

• Meeting the objective in the January 2000 Strategic Plan of BPA's Power Business Line to acquire at least 150 average MW of new renewable resources by the end of fiscal year 2006 in order to meet customer demand for new renewable resources.

Proposed Action. In September 2000, Blackfeet I proposed to construct and operate this 36- to 66-MW wind generation facility, located in mid Glacier County, Montana, east of the town of Babb, on the Blackfeet Indian Reservation. BPA proposes to execute one or more power purchase and transmission services agreements to acquire the full electrical output of Blackfeet I's proposed Blackfeet Wind Project. The proposed site is tentatively called Duck Lake Ridge, which includes portions of Sections 28, 29, 31, 32, T36N R13W, and portions of Sections 5 and 6, T35N R13W, on approximately 3800 acres of tribal, allotted, and privately owned lands. Land uses within the Project site consist of non-irrigated agriculture—primarily cattle grazing and some timber. No Project facilities would be constructed upon lands owned by the State of Montana or by the United States.

Approximately 36 to 88 wind turbines would be arranged in several ”strings,” with generally between 250 to 425 feet between turbines in each string. Blackfeet I is considering using either 600-kilowatt (kW) turbines, or 1,000-kW turbines. The proposed turbine type would be an upwind, fixed-speed turbine (i.e., the rotor always faces upwind and turns at a constant speed), mounted on tubular steel towers installed on a reinforced concrete foundation. The wind turbine rotors would turn at approximately 18 to 28 revolutions per minute. The typical operating range of wind speeds for these turbine types is 10 to 65 miles per hour (mph). At speeds greater than 60 or 65 mph, the wind turbines automatically cease operating and remain stationary until the wind speeds become slower. Foundations would be either tubular or pad, ranging from approximately 15 to 20 feet in width and extending up to 25 to 30 feet underground or anchored into bedrock. Agricultural activities generally can continue to take place directly adjacent to the turbine pads.

Power from all turbines in the Project would be collected by an underground and overhead cable loop and then fed underground to a proposed substation to be located at the Project site. The fenced substation site would occupy approximately one to two acres. From the substation site, power from the Project would be transmitted by existing above-ground transmission lines owned by Glacier Electric Cooperative. These facilities are currently operated at 34.5 kilovolts (kV) and would be energized at their design and constructed voltage rating of 115 kV, which would then interconnect with the existing Montana Power Company's 115-kV transmission facilities at Browning, Montana, or Western Area Power Administration's 115-kV transmission facilities at Shelby, Montana. The power would either be used locally or be transmitted to other parts of the Northwest transmission grid to meet Northwest loads. Other facilities required as part of the Project are down-tower pad-mounted transformers, access roads, an operation and maintenance building, and communications system. The Project is scheduled to begin commercial operation late in 2002, and would operate year-round for at least 20 years.

Process to Date. Wind assessments began in October 2000. Surveys for sensitive plant and wildlife species are being initiated in the spring of 2001. Scoping will help identify what additional studies will be required.

Alternatives Proposed for Consideration. The alternatives include the proposed action (executing a power purchase agreement with Blackfeet I for up to 36 to 66 MW of electrical energy from the proposed Blackfeet Wind Project and contracting for transmission), and the No Action alternative.

Public Participation and Identification of Environmental Issues. For other wind projects, noise, visual impacts, impacts on cultural resources, and effects on sensitive plant and animal species have been identified as potential environmental issues. BPA has established a 30-day scoping period during which affected landowners, concerned citizens, special interest groups, local governments, and any other interested parties are invited to comment on the scope of the EIS. Scoping will help BPA identify the range of environmental issues that should be addressed in the EIS. When completed, the Draft EIS will be circulated for review and comment, and BPA will hold at least one public comment meeting for the Draft EIS. BPA will consider and respond in the Final EIS to comments received on the Draft EIS. The Final EIS is expected to be published in early summer 2002. BPA's subsequent decision will be documented in a Record of Decision. The EIS will satisfy the requirements of the National Environmental Policy Act.

Issued in Portland, Oregon, on April 6, 2001.
Steven G. Hickok,
Acting Administrator and Chief Executive Officer.

[FR Doc. 01-9379 Filed 4-13-01; 8:45 am]

BILLING CODE 6450-01-P